ENVIRONMENTAL PROTECTION AGENCY

[EPA-HQ-AO-2022-0729; FRL-10307-01-OA]

Proposed Information Collection Request; Comment Request; Environmental Education Local Grants Progress Report Form

AGENCY: Environmental Protection Agency (EPA).

ACTION: Notice.

SUMMARY: The Environmental Protection Agency is planning to submit an information collection request (ICR), “Comment Request; Environmental Education Local Grants Progress Report Form” (EPA ICR No. 2731.01, OMB Control No. 2090-NEW) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before January 17, 2023.

ADDRESSES: Submit your comments, referencing Docket ID No. EPA-HQ-OA-2022-0729 online using www.regulations.gov (our preferred method), by email to OEI.docket@epa.gov, or by mail to: EPA Docket Center, Environmental Protection Agency, Mail Code 28221T, 1200 Pennsylvania Ave. NW, Washington, DC 20460.

EPA's policy is that all comments received will be included in the public docket without change including any personal information provided unless the comment includes profanity, threats, information claimed to be Confidential Business Information (CBI) or other information whose disclosure is restricted by statute.

FOR FURTHER INFORMATION CONTACT: Michael Band, Office of Environmental Education, (1704A), Environmental Protection Agency, 1200 Pennsylvania Ave. NW, Washington, DC 20460; telephone number: 202-564-3155; email address: band.michael@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This notice announces the collection of information related to the U.S. EPA Environmental Education (EE) Local Grants Program. EPA proposes to collect information from this program's grant recipients. Specifically, EPA proposes to have all EE grantees use the progress report form, detailed in the Supporting Statement, when drafting their Quarterly Progress Reports and Final Reports. By requiring all EE Grantees to use the EE Local Grant Progress Report Form, EPA's Office of Environmental Education will be equipped to gather data on this grant program's outputs, outcomes, the total number of individuals reached, and the total number of underserved communities reached. This information will help EPA ensure projects are on schedule to meet their goals and produce high quality environmental outputs. Additionally, requiring all EE grantees to submit their Quarterly and Final reports using the proposed form will allow EPA's Office of Environmental Education to accurately track and report the overall impact of this grant program as well as contribute to the Agency's Justice40 reporting requirements.

Form Numbers: EPA Form Number 5800-082.

Respondents/affected entities: Local education agencies, colleges or universities, state education or environmental agencies, nonprofit organizations as described in Section 501(C)(3) of the U.S. Internal Revenue Code, noncommercial educational broadcasting entities as defined and licensed by U.S. Federal Communications Commission.

Respondent's obligation to respond: Mandatory (in accordance with OMB and EPA regulations, Title 2 CFR, Parts 200 and 1500, the recipient agrees to submit progress reports on a quarterly basis to the EPA Project Officer within thirty (30) days after each reporting period and the Final Report to the EPA Project Officer within one hundred twenty (120) days after the expiration or termination of the approved project period.

Estimated number of respondents: 120 (per year).

Frequency of response: Four times per year for the Quarterly Progress Reports; one time for the Final Report.

Total estimated burden: 720 hours (per year). Burden is defined at 5 CFR 1320.03(b).

Total estimated cost: $37,987 (per year), includes $0 annualized capital or operation & maintenance costs.

Changes in estimates: Without revised burden numbers at this time, the Office of Environmental Education expects the burden numbers to decrease in the future due to increased access to technology.

Hiram Tanner III,
Director, Office of Environmental Education (OEE).

[FR Doc. 2022-24745 Filed 11-14-22; 8:45 am]

BILLING CODE 6560-50-P